DEPARTMENT OF AGRICULTURE

Forest Service

Intergovernmental Advisory Committee Meeting

AGENCY: Forest Service, USDA.

ACTION: Notice of meeting.

SUMMARY: The Intergovernmental Advisory Committee (IAC) will meet on April 1, 2003, at the Lloyd Center Double Tree Hotel, located at 1000 NE., Multnomah Street in Portland, Oregon, subject to the advance approval of the committee's Federal Advisory Committee Act charter by the Department of Agriculture. The meeting is scheduled to begin at 10 a.m. and adjourn at approximately 5 p.m. In general, the purpose of the meeting is for the committee to continue with discussions related to Northwest Forest Plan (NWFP) implementation. Particular meeting agenda items include, but are not limited to, a panel discussion on NWFP-related socio-economic issues, progress reports on several initiatives underway to improve the performance of the NWFP in satisfying the full range of its objectives, and a proposal for the interagency and intergovernmental organizational structure under the next Memorandum of Understanding. The meeting is open to the public and will be fully accessible for people with disabilities. Interpreters are available upon request at least 10 days prior to the meeting. Written comments may be submitted for the meeting record. The agenda also features a 15-minute time slot reserved for any public commemts to be offered at the meeting. Interested persons are encouraged to attend.

FOR FURTHER INFORMATION CONTACT: Questions regarding this meeting may be directed to Kath Collier, Management Analyst, Regional Ecosystem Office, 333 SW., First Avenue, P.O. Box 3623, Portland, OR 97208 (Phone: 503-808-2165).

Dated: March 11, 2003.
Stephen J. Odell,
Designated Federal Official.

[FR Doc. 03-6263 Filed 3-14-03; 8:45 am]

BILLING CODE 3410-11-M